DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 5, 2010. Address written comments to Statutory Import Programs Staff, Room 3720, U.S. Department of Commerce, Washington, DC 20230. Applications may be examined between 8:30 a.m. and 5 p.m. at the U.S. Department of Commerce in Room 3720.

Docket Number: 10-001. Applicant: United States Environmental Protection Agency, 26 W. MLK Ave., ML 681, Cincinnati, OH 45268. Instrument: Electron Microscope. Manufacturer: JEOL, Japan. Intended Use: The instrument will be used to investigate material and biological, micro and nano-sized phenomena from a variety of sources. The samples will be fixed, sectioned and attached to grids to be viewed in the instrument. Justification for Duty-Free Entry: There are no domestic manufacturers of this instrument. Application accepted by Commissioner of Customs: January 29, 2010.

Dated: March 9, 2010.
Christopher Cassel,
Director, IA Subsidies Enforcement Office.

[FR Doc. 2010-5594 Filed 3-12-10; 8:45 am]

BILLING CODE 3510-DS-P